DEPARTMENT OF LABOR

Occupational Safety and Health Administration

29 CFR Parts 1910 and 1926

[Docket No. S-0215]

RIN 1218-AB67

Electric Power Generation, Transmission, and Distribution; Electrical Protective Equipment; Extension of Comment Period; Change in Date of Public Hearing

AGENCY: Occupational Safety and Health Administration (OSHA), Labor.

ACTION: Notice of hearing; extension of comment period; reopening of the period to file notices of intention to appear at an informal public hearing; additional issues for comment.

SUMMARY: This notice reschedules an informal hearing on the proposed standards on electric power generation, transmission, and distribution and on electrical protective equipment, which were published on June 15, 2005. It also reopens the period to file notices of intention to appear at the informal public hearing, extends the period for written comments on the proposal, extends the period to provide the complete text of testimony and documentary evidence, and identifies additional issues on which OSHA is seeking comment. These periods are extended 90 days with this notice.

DATES: Comments. Comments on the proposal must be submitted (postmarked or sent) by January 11, 2006.

Informal public hearing. OSHA will hold an informal public hearing in Washington, DC, beginning March 6, 2006. The hearing will commence at 1 p.m. on the first day, and at 9 a.m. on the second and subsequent days.

Notices of intention to appear. Parties who intend to present testimony at the informal public hearing must notify OSHA in writing of their intention to do so no later than November 11, 2005.

Hearing testimony and documentary evidence. Parties who request more than 10 minutes for their presentations at the informal public hearing and parties who will submit documentary evidence at the hearing must submit the full text of their testimony and all documentary evidence postmarked no later than February 1, 2006.

ADDRESSES: You may submit written comments, notices of intention to appear, hearing testimony, and documentary evidence—identified by docket number (S-215) or RIN number (1218-AB67)—by any of the following methods.

• Federal eRulemaking Portal: http://www.regulations.gov. Follow the instructions for submitting comments.

• OSHA Web site: http://dockets.osha.gov/. Follow the instructions for submitting comments on OSHA's Web page.

• Fax: If your written comments are 10 pages or fewer, you may fax them to the OSHA Docket Office at (202) 693-1648.

• Regular mail, express delivery, hand delivery, and courier service: Submit three copies to the OSHA Docket Office, Docket No. S-215, U.S. Department of Labor, 200 Constitution Avenue, NW., Room N2625, Washington, DC 20210; telephone (202) 693-2350. (OSHA's TTY number is (877) 889-5627.) OSHA Docket Office hours of operation are 8:15 a.m. to 4:45 p.m., e.s.t.

Instructions: All submissions received must include the agency name and docket number or Regulatory Information Number (RIN) for this rulemaking. All comments received will be posted without change to http://dockets.osha.gov/, including any personal information provided. For detailed instructions on submitting comments and additional information on the rulemaking process, see the “Public Participation” heading of the SUPPLEMENTARY INFORMATION section of this document.

Docket: For access to the docket to read comments and background documents that can be posted go to http://dockets.osha.gov/. Written comments received, notices of intention to appear, and all other material related to the development of the proposed standard will be available for inspection and copying in the public record in the Docket Office at the address listed previously.

Hearing: The hearing will be held in the auditorium of the U.S. Department of Labor, 200 Constitution Avenue, NW., Washington DC.

FOR FURTHER INFORMATION CONTACT: General information and press inquiries: Mr. Kevin Ropp, Director, Office of Communications, Room N3647, OSHA, U.S. Department of Labor, 200 Constitution Avenue, NW., Washington, DC 20210; telephone (202) 693-1999.

Technical information: Mr. David Wallis, Director, Office of Engineering Safety, Room N3609, OSHA, U.S. Department of Labor, 200 Constitution Avenue, NW., Washington, DC 20210; telephone (202) 693-2277 or fax (202) 693-1663.

Hearings: Ms. Veneta Chatmon, OSHA Office of Communications, Occupational Health and Safety Administration, Room N3647; 200 Constitution Avenue, NW., Washington, DC 20210; telephone (202) 693-1999.

Electronic copies of this Federal Register notice, as well as news, are available at OSHA's Web page on the Internet at http://www.osha.gov.

SUPPLEMENTARY INFORMATION: On June 15, 2005, OSHA published a proposal that would update the standards on electric power generation, transmission, and distribution and on electrical protective equipment for general industry and construction (70 FR 34822). Interested parties were given until August 15, 2005, to submit notices of intention to appear at an informal hearing, and they were given until October 13, 2005, to submit written comments.

The Edison Electric Institute (EEI) requested that OSHA extend the rulemaking period by 90 days. EEI argued that an extension is warranted because of the involvement of their membership in electric power restoration following Hurricane Katrina, as follows:

EEI is the association of the nation's investor owned electric companies. Many EEI member companies, their employees, and contractors they regularly engage, are now overwhelmingly occupied with providing assistance in the areas affected by Hurricane Katrina. This is especially so as to those involved in electric power transmission and distribution construction, as sister companies work to provide mutual aid, including restoration of electric power, to customers of those companies whose service territories include affected portions of southern states. Stated simply, those involved in managing and performing such work are likely to have little, if any, time now or in the coming few months to focus on assisting EEI to prepare comments on the proposed rule.

OSHA has received similar requests from other organizations.

The Agency recognizes that many of the parties who would be interested in this rulemaking are heavily involved in responding to the destruction caused by Hurricane Katrina. The affected contractors and electric utilities, including utilities providing assistance directly affected areas, are likely to be spending significant resources on the restoration efforts, As EEI notes, these contractors and utilities will have little time in the next couple of months to respond to OSHA's request for comments on the proposed standards. Therefore, OSHA is extending the rulemaking period by 90 days.

Issues

In the preamble to the proposal, OSHA specifically requested comments in nearly seventy areas, involving such issues as safe work procedures and requirements for protective equipment. For instance, OSHA requested comments on how employees can be insulated or isolated from multiphase exposure (70 FR 34831) and on whether the standard should require the employer to provide automated external defibrillators (70 FR 34842). OSHA received over 30 notices of intention to appear (NOITA) in response to the notice of proposed rulemaking (NPRM). The NOITAs raised many issues related to the proposal, some of which went beyond those listed in the NPRM. OSHA will consider evidence introduced on these issues during the rulemaking and invites the public to comment on them:

• Whether the standard should include ground-to-ground, cradle-to-cradle, or lock-to-lock rubber glove and sleeve requirements;

• Whether the standard should include specific multicrew tagging requirements;

• Whether the standard should include tagging requirements for systems using supervisory control and data acquisition (SCADA) equipment; ¹

¹ SCADA is a computer system for monitoring and controlling equipment (in this case, electric power transmission and distribution lines and equipment).

• Whether OSHA should revise the order of removal of protective grounds for the protection of employees as given in proposed § 1926.962(f)(2) and § 1910.269(n)(7);

• Whether the standard should include specific requirements for the creation of an equipotential zone;

• Whether the standard should include requirements for an information trail tracking the job briefing between all levels of employees associated with the job, for example, between the supervisor, employee-in-charge, and crewmember;

• Whether the standard should require fall arrest or work positioning equipment for employees transferring to another object while climbing; and

• Whether the provisions for the testing of fall protection equipment in proposed § 1926.954(b) and § 1910.269(g)(2) are appropriate.

OSHA is not limiting comments, hearing requests, and documentary evidence to only these areas. OSHA invites comments, hearing requests, and documentary evidence on all issues raised by the proposal.

Public Participation—Comments and Hearings

OSHA encourages members of the public to participate in this rulemaking by submitting comments on the proposal, and by providing oral testimony and documentary evidence at the informal public hearing that the Agency will convene after the comment period ends. In this regard, the Agency invites interested parties having knowledge of, or experience with, safety related to working on electric power generation, transmission, or distribution installations to participate in this process, and welcomes any pertinent data and cost information that will provide it with the best available evidence on which to develop the final standard.

This section describes the procedures the public must use to submit their comments to the docket in a timely manner, and to schedule an opportunity to deliver oral testimony and provide documentary evidence at the informal public hearings. Comments, notices of intention to appear, hearing testimony, and documentary evidence will be available for inspection and copying at the OSHA Docket Office. You also should read the earlier sections titled DATES and ADDRESSES for additional information on submitting comments, documents, and requests to the Agency for consideration in this rulemaking.

Written comments. OSHA invites interested parties to submit written data, views, and arguments concerning this proposal. In particular, OSHA encourages interested parties to comment on the various issues raised in the summary and explanation of the proposal (70 FR 34826-34893) and in this notice. When submitting comments, parties must follow the procedures specified earlier in the sections titled DATES and ADDRESSES. The comments must clearly identify the provision of the proposal you are addressing, the position taken with respect to each issue, and the basis for that position. Comments, along with supporting data and references, received by the end of the specified comment period will become part of the proceedings record, and will be available for public inspection and copying at the OSHA Docket Office.

Informal Public Hearing. Pursuant to section 6(b)(3) of the Occupational Safety and Health Act, members of the public will have an opportunity at an informal public hearing to provide oral testimony concerning the issues raised in this proposal. The hearings will connect at 1 p.m. on March 6, 2006. At that time, the presiding administrative law judge (ALJ) will resolve any procedural matters relating to the proceeding. The hearings will reconvene on subsequent days at 9 a.m.

The legislative history of section 6 of the OSH Act, as well as OSHA's regulation governing public hearings (29 CFR 1911.15), establishes the purpose and procedures of informal public hearings. Although the presiding officer of such hearings is an ALJ, and questioning by interested parties is allowed on crucial issues, the proceeding is informal and legislative in purpose. Therefore, the hearing provides interested parties with an opportunity to make effective and expeditious oral presentations in the absence of procedural restraints or rigid procedures that could impede or protract the rulemaking process. In addition, the hearing is an informal administrative proceeding, rather than an adjudicative one in which the technical rules of evidence would apply, because its primary purpose is to gather and clarify information. The regulations that govern public hearings, and the prehearing guidelines issued for this hearing, will ensure participants fairness and due process, and will facilitate the development of a clear, accurate, and complete record. Accordingly, application of these rules and guidelines will be such that questions of relevance, procedure, and participation generally will favor development of the record.

Conduct of the hearing will conform to the provisions of 29 CFR part 1911, “Rules of Procedure for Promulgating, Modifying, or Revoking Occupational Safety and Health Standards.” The regulation at 29 CFR 1911.4, “Additional or Alternative Procedural Requirements,” specifies that the Assistant Secretary may, on reasonable notice, issue alternative procedures to expedite proceedings or for other good cause. Although the ALJs who preside over these hearings make no decision or recommendations on the merits of OSHA's proposal, they do have the responsibility and authority to ensure that the hearing progresses at a reasonable pace and in an orderly manner. To ensure that interested parties receive a full and fair informal hearing as specified by 29 CFR part 1911, the ALJ has the authority and power to: Regulate the course of the proceedings; dispose of procedural requests, objections, and comparable matters; confine the presentations to matters pertinent to the issuers raised; use appropriate means to regulate the conduct of the parties who are present at the hearing; question witnesses, and permit others to question witnesses; and limit the time for such questioning. At the close of the hearing, the ALJ will establish a post-hearing comment period for parties who participated in the hearing. During the first part of this period, the participants may submit additional data and information to OSHA; during the second part of this period, they may submit briefs, arguments, and summations.

Notice of Intention to Appear to Provide Testimony at the Informal Public Hearing. Interested parties who intend to provide oral testimony at the informal public hearings must file a notice of intention to appear by using the procedures specified earlier in the sections titled DATES and ADDRESSES. This notice must provide the: name, address, and telephone number of each individual who will provide testimony, and their preferred hearing location; capacity (for example, the name of the establishment or organization the individual is representing and the individual's occupational title and position) in which each individual will testify; approximate amount of time required for each individual's testimony; specific issues each individual will address, including a brief statement of the position that the individual will take with respect to each of these issues; and a brief summary of any documentary evidence the individual intends to present.

OSHA emphasizes that the hearings are open to the public, and that interested parties are welcome to attend. However, only a party who files a complete notice of intention to appear may ask questions and participate fully in the proceedings. While a party who did not file a notice of intention to appear may be allowed to testify at the hearing if time permits, this determination is at the discretion of the presiding ALJ.

Hearing Testimony and Documentary Evidence. Any party requesting more than 10 minutes to testify at the informal public hearing, or who intends to submit documentary evidence at the hearing, must provide the complete text of the testimony and the documentary evidence as specified earlier in the sections listed DATES and ADDRESSES. The Agency will review each submission and determine if the information it contains warrants the amount of time requested. If OSHA believes the requested time is excessive, it will allocate an appropriate amount of time to the presentation, and will notify the participant of this action, and the reasons for the action, before the hearing. The Agency may limit to 10 minutes the presentation of any participant who fails to comply substantially with these procedural requirements; in such instances, OSHA may request the participant to return for questioning later.

Certification of the Record and Final Determination after the Informal Public Hearing. Following the close of the hearing and post-hearing comment period, the presiding ALJ will certify the record to the Assistant Secretary of Labor for Occupational Safety and Health; the record will consist of all of the written comments, oral testimony, and documentary evidence received during the proceeding. However, the ALJ does not make or recommend any decisions as to the content of the final standard. Following certification of the record, OSHA will review the proposed provisions in light of all the evidence received as part of the record, and then will issue the final rule based on the entire record.

Authority and Signature

This document was prepared under the direction of Jonathan L. Snare, Deputy Assistant Secretary of Labor of Occupational Safety and Health, 200 Constitution Avenue, NW., Washington, DC 20210.

This action is taken pursuant to sections 4, 6, and 8 of the Occupational Safety and Health Act of 1970 (29 U.S.C. 653, 655, 657), Secretary of Labor's Order No. 5-2002 (67 FR 65008), and 29 CFR part 1911.

Dated: Signed at Washington, DC this 6th day of October, 2005.
Jonathan L. Snare,
Acting Assistant Secretary of Labor.

[FR Doc. 05-20421 Filed 10-11-05; 8:45 am]

BILLING CODE 4510-26-M